DEPARTMENT OF ENERGY

Federal Energy Regulatory Commission

[Docket No. EL01-37-000]

Salt River Project Agricultural Improvement and Power District and Sacramento Municipal Utility District v. California Power Exchange Corporation; Notice of Complaint

February 14, 2001.

Take notice that on February 12, 2001, the Salt River Project Agricultural Improvement and Power District (SRP) and the Sacramento Municipal Utility District (SMUD) (collectively, Complainants) submitted a Complaint Requesting Fast Track Processing against the California Power Exchange Corporation (PX) pursuant to section 206 of the Federal Power Act, 16 U.S.C. 824e. The Complainants allege that the PX is violating the default provisions in its tariff by issuing erroneous notices of default and charging other PX participants for payments owed to the PX and the California Independent System Operator (ISO) by Southern California Edison Company and Pacific Gas & Electric Company. The Complainants request that the Commission direct the PX immediately to: (i) Cease applying the charge back provisions in its tariff; (ii) cease issuing default notices pursuant to the charge back provisions in its tariff; and (iii) rescind all default notices issued previously against the Complainants.

Copies of the filing were served upon the California Power Exchange Corporation, the California Public Utilities Commission, and all persons designated on the official service list compiled by the Secretary in Docket Nos. EL00-95-000, et al.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before March 5, 2001. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before March 5, 2001. Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 01-4202 Filed 2-20-01; 8:45 am]

BILLING CODE 6717-01-M